SURFACE TRANSPORTATION BOARD

[Docket No. FD 36557]

Union Pacific Railroad Company—Trackage Rights Exemption—BNSF Railway Company

Union Pacific Railroad Company (UP), a Class I rail carrier, has filed a verified notice of exemption under 49 CFR 1180.2(d)(7) for renewal of trackage rights over a rail line owned by BNSF Railway Company (BNSF), between milepost 1120.7 near Stockton, Cal., and milepost 1164.5 near Port Chicago, Cal., a total distance of approximately 45 miles (the Line).

UP states it has operated over the Line pursuant to a trackage rights agreement since 1992. See Union Pac. R.R.—Trackage Rts. Exemption—Atchison, Topeka & Santa Fe Ry., FD 32153 (ICC served Oct. 1, 1992). According to the verified notice, UP and BNSF have executed an amendment to their existing agreement, and operations will continue as they have since 1992 without material change.¹

¹ A redacted version of the trackage rights renewal between UP and BNSF was filed with the verified notice. An unredacted version of the agreement was submitted to the Board under seal concurrently with a motion for protective order, which was granted on November 5, 2021.

The transaction may be consummated on or after November 28, 2021, the effective date of the exemption (30 days after the verified notice was filed).

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the notice contains false or misleading information, the exemption is void ab initio. Petitions to revoke the exemption under 49 U.S.C. 10502(d) may be filed at any time. The filing of a petition to revoke will not automatically stay the effectiveness of the exemption. Petitions for stay must be filed by November 19, 2021.

All pleadings, referring to Docket No. FD 36557, should be filed with the Surface Transportation Board via e-filing on the Board's website. In addition, a copy of each pleading must be served on UP's representative, Jeremy Berman, 1400 Douglas Street, Union Pacific Railroad Company, STOP 1580, Omaha, NE 68179.

According to UP, this action is categorically excluded from environmental review under 49 CFR 1105.6(c)(3) and from historic preservation reporting requirements under 49 CFR 1105.8(b)(3).

Board decisions and notices are available at www.stb.gov.

Decided: November 8, 2021.
By the Board, Scott M. Zimmerman, Acting Director, Office of Proceedings.
Raina White,
Clearance Clerk.

[FR Doc. 2021-24694 Filed 11-10-21; 8:45 am]

BILLING CODE 4915-01-P